DEPARTMENT OF LABOR

Occupational Safety and Health Administration

[Docket No. OSHA-2013-0012]

Proposed Modification to the List of Appropriate NRTL Program Test Standards and the Scopes of Recognition of Several NRTLs

AGENCY: Occupational Safety and Health Administration (OSHA), Labor.

ACTION: Notice.

SUMMARY: In this notice, OSHA proposes to: (1) Add new test standards to the Nationally Recognized Testing Laboratories (NRTL) Program's list of appropriate test standards; (2) delete or replace several test standards from the NRTL Program's list of appropriate test standards; and (3) update the scope of recognition of several NRTLs.

DATES: Submit comments, information, and documents in response to this notice, or request for an extension of time to make a submission, on or before May 10, 2019.

ADDRESSES: Submit comments by any of the following methods:

Electronically: You may submit comments and attachments electronically at: https://www.regulations.gov, which is the Federal eRulemaking Portal. Follow the instructions online for submitting comments.

Facsimile: If your comments, including attachments, are not longer than 10 pages, you may fax them to the OSHA Docket Office at (202) 693-1648.

Mail, hand delivery, express mail, messenger, or courier service: When using this method, you must submit a copy of your comments and attachments to the OSHA Docket Office, Docket No. OSHA-2013-0012, Occupational Safety and Health Administration, U.S. Department of Labor, Room N-3653, 200 Constitution Avenue NW, Washington, DC 20210. Deliveries (hand, express mail, messenger, and courier service) are accepted during the Docket Office's normal business hours, 10:00 a.m. to 3:00 p.m., ET.

Instructions: All submissions must include the agency name and the OSHA docket number (OSHA-2013-0012). OSHA places comments and other materials, including any personal information, in the public docket without revision, and these materials will be available online at http://www.regulations.gov. Therefore, the agency cautions commenters about submitting statements they do not want made available to the public, or submitting comments that contain personal information (either about themselves or others) such as Social Security Numbers, birth dates, and medical data.

Docket: To read or download comments or other material in the docket, go to https://www.regulations.gov or the OSHA Docket Office at the above address. All documents in the docket (including this Federal Register notice) are listed in the https://www.regulations.gov index; however, some information (e.g., copyrighted material) is not publicly available to read or download through the website. All submissions, including copyrighted material, are available for inspection at the OSHA Docket Office.

Extension of comment period: Submit requests for an extension of the comment period on or before April 25, 2019 to the Office of Technical Programs and Coordination Activities, Directorate of Technical Support and Emergency Management, Occupational Safety and Health Administration, U.S. Department of Labor, 200 Constitution Avenue NW, Room N-3653, Washington, DC 20210, or by fax to (202) 693-1644.

FOR FURTHER INFORMATION CONTACT: Information regarding this notice is available from the following sources:

Press inquiries: Contact Mr. Frank Meilinger, Director, OSHA Office of Communications; telephone: (202) 693-1999; email: meilinger.francis2@dol.gov.

General and technical information: Contact Mr. Kevin Robinson, Director, Office of Technical Programs and Coordination Activities, Directorate of Technical Support and Emergency Management, Occupational Safety and Health Administration; telephone: (202) 693-2110 or email: robinson.kevin@dol.gov. OSHA's web page includes information about the NRTL Program (see http://www.osha.gov/dts/otpca/nrtl/index.html).

SUPPLEMENTARY INFORMATION:

I. Background

The NRTL Program recognizes organizations that provide product-safety testing and certification services to manufacturers. These organizations perform testing and certification for purposes of the program, to U.S. consensus-based product-safety test standards. The products covered by the NRTL Program consist of those items for which OSHA safety standards require “certification” by a NRTL. The requirements affect electrical products and 38 other types of products. OSHA does not develop or issue these test standards, but generally relies on standards development organizations (SDO), which develop and maintain the standards using a method that provides input and consideration of views of industry groups, experts, users, consumers, governmental authorities, and others having broad experience in the safety field involved.

Addition of New Test Standards to the NRTL List of Appropriate Test Standards

Periodically, OSHA will add new test standards to the NRTL list of appropriate test standards following an evaluation of the test standard document. To qualify as an appropriate test standard, the agency evaluates the document to (1) verify it represents a product category for which OSHA requires certification by a NRTL, (2) verify the document represents an end product and not a component, and (3) verify the document defines safety test specifications (not installation or operational performance specifications). OSHA becomes aware of new test standards through various avenues. For example, OSHA may become aware of new test standards by: (1) Monitoring notifications issued by certain SDO; (2) reviewing applications by NRTLs or applicants seeking recognition to include a new test standard in their scopes of recognition; and (3) obtaining notification from manufacturers, manufacturing organizations, government agencies, or other parties that a new test standard may be appropriate to add to the list of appropriate standards. OSHA may determine to include a new test standard in the list, for example, if the test standard is for a particular type of product that another test standard also covers, addresses a type of product that no standard previously covered, or is otherwise new to the NRTL Program.

SDO Deletion and Replacement of Test Standards

The NRTL Program regulations require that appropriate test standards be maintained and current (29 CFR 1910.7(c)). A test standard withdrawn by a standards development organization is no longer considered an appropriate test standard (Directive, App. C.XIV.B). It is OSHA's policy to remove recognition of withdrawn test standards by issuing a correction notice in the Federal Register for all NRTLs recognized for the withdrawn test standards. However, SDOs frequently will designate a replacement standard for withdrawn standards. OSHA will recognize a NRTL for an appropriate replacement test standard if the NRTL has the requisite testing and evaluation capability for the replacement test standard.

One method that NRTLs may use to show such capability involves an analysis to determine whether any testing and evaluation requirements of existing test standards in a NRTL's scope are comparable (i.e., are completely or substantially identical) to the requirements in the replacement test standard. If OSHA's analysis shows the replacement test standard does not require additional or different technical capability than an existing test standard(s), the replacement test standard is comparable to the existing test standard(s), then OSHA can add the replacement test standard to affected NRTLs' scopes of recognition. If OSHA's analysis shows the replacement test standard requires an additional or different technical capability, or the replacement test standard is not comparable to any existing test standards, each affected NRTL seeking to have OSHA add the replacement test standard to the NRTL's scope of recognition must provide information to OSHA that demonstrates technical capability.

Other Reasons for Removal of Test Standards From the NRTL List of Appropriate Test Standards

OSHA may choose to remove a test standard from the NRTL list of appropriate test standards based on an internal review in which NRTL Program staff review the NRTL list of appropriate test standards to determine if the test standards conform to the definition of an appropriate test standard defined in NRTL Program regulations and policy. There are several reasons for removing a test standard based on this review. First, a document that provides the methodology for a single test is a test method rather than an appropriate test standard (29 CFR 1910.7(c)). As stated above, a test standard must specify the safety requirements for a specific type of product(s). A test method, however, is a “specified technical procedure for performing a test” (Directive, App. B). As such, a test method is not an appropriate test standard. While a NRTL may use a test method to determine if certain safety requirements are met, a test method is not itself a safety requirement for a specific product category.

Second, a document that focuses primarily on usage, installation, or maintenance requirements would also not be considered an appropriate test standard (Directive, App. D.IV.B). In some cases, however, a document may also provide safety test specifications in addition to usage, installation, and maintenance requirements. In such cases, the document would be retained as an appropriate test standard based on the safety test specifications.

Finally, a document may not be considered an appropriate test standard if the document covers products for which OSHA does not require testing and certification (Directive, App. D.IV.A). Similarly, a document that covers electrical product components would not be considered an appropriate test standard. These documents apply to types of components that have limitation(s) or condition(s) on their use, which are not appropriate for use as end-use products. These documents also specify that these types of components are for use only as part of an end-use product. NRTLs, however, evaluate such components only in the context of evaluating whether end-use products requiring NRTL approval are safe for use in the workplace. Testing such components alone would not indicate that the end-use products containing the components are safe for use. Accordingly, as a matter of policy, OSHA considers that documents covering such components are not appropriate test standards under the NRTL Program. OSHA notes, however, that it is not proposing to delete from NRTLs' scopes of recognition any test standards covering end-use products that contain such components.

In addition, OSHA notes that, to conform to a test standard covering an end-use product, a NRTL must still determine that the components in the product comply with the components' specific test standards. In making this determination, NRTLs may test the components themselves, or accept the testing of a qualified testing organization that a given component conforms to the particular test standard. OSHA reviews each NRTL's procedures to determine which approach the NRTL will use to address components, and reviews the end-use product testing to verify the NRTL appropriately addresses that product's components.

II. Proposal To Remove Test Standards to the NRTL Program's List of Appropriate Test Standards

In this notice, OSHA proposes to delete several withdrawn and deleted test standards from the NRTL Program's list of appropriate test standards. OSHA proposes to incorporate into the NRTL Program's list of appropriate test standards replacement test standards for some of the withdrawn and deleted test standards.

Table 1 lists the test standards that OSHA proposes to delete from the NRTL Program's List of Appropriate Test Standards, as well as an abbreviated rationale for OSHA's proposed action. Additionally, Table 1 lists corresponding replacement test standards that OSHA proposes to incorporate into the NRTL Program's List of Appropriate Test Standards (when applicable). OSHA seeks comment on this preliminary determination.

OSHA notes that Table 1 lists the subject test standards and the proposed action with regard to each of these test standards without indicating how the proposed action will affect individual NRTLs. Section IV of this notice discusses how the proposed action will affect individual NRTLs.

Table 1—Test Standards OSHA Is Proposing To Remove From NRTL Program's List of Appropriate Test Standards
Proposed deleted test standard | Test standard title | Reason for deletion | Proposed replacement standard(s)
ANSI C37.44 | Distribution Oil Cutouts and Fuse Links | Withdrawn | None.
IEEE C37.09 | Standard Test Procedure for High-Voltage Circuit Breakers Rated on a Symmetrical Current Basis | Withdrawn | None.
IEEE C37.29 | Low-Voltage AC Power Circuit Protectors Used in Enclosures | Withdrawn | None.
IEEE C37.45 | Distribution Enclosed Single-Pole Air Switches | Withdrawn | None.
NEMA C37.52 | Low-Voltage AC Power Circuit Protectors Used in Enclosures—Test Procedures | Withdrawn | None.
IEEE C37.53 | High-Voltage Current Motor-Starter Fuses—Conformance Test Procedures | Withdrawn | None.
ISA 82.02.01 | Electric and Electronic Test, Measuring, Controlling and Related Equipment: General Requirement | Withdrawn | None.
UL 1093 | Halogenated Agent Fire Extinguishers | Withdrawn | None.
UL 1244 | Electrical and Electronic Measuring and Testing Equipment | Withdrawn | None.
UL 1448 | Electric Hedge Trimmers | Withdrawn and replaced | UL 60745-2-15 Particular Requirements for Hedge Trimmers.
ISA 60079-2 | Explosive Atmospheres—Part 2: Equipment Protection by Pressurized Enclosures “p” | Withdrawn and replaced | UL 60079-2 Explosive Atmospheres—Part 2: Protection by Pressurized Enclosures “p”.
ISA 60079-5 | Explosive Atmospheres—Part 5: Equipment Protection by Powder Filling “q” | Withdrawn and replaced | UL 60079-5 Explosive Atmospheres—Part 5: Equipment Protection by Powder Filling “q”.
ISA 60079-18 | Explosive Atmospheres—Part 18: Equipment Protection by Encapsulation “m” | Withdrawn and replaced | UL 60079-18 Explosive Atmospheres—Part 18: Equipment Protection by Encapsulation “m”.
ISA 60079-26 | Explosive Atmospheres—Part 26: Equipment for Use in Class I, Zone 0 Hazardous (Classified) Locations | Withdrawn and replaced | UL 60079-26 Explosive Atmospheres—Part 26: Equipment for Use in Class I, Zone 0 Hazardous (Classified) Locations.
UL 745-1 | Portable Electric Tools | Withdrawn | None.
UL 745-2 | Particular Requirements of Drills | Withdrawn | None.
UL 745-2-3 | Particular Requirements for Grinders, Polishers and Disk-Type Sanders | Withdrawn | None.
UL 745-2-17 | Particular Requirements for Circular Saws and Circular Knives | Withdrawn | None.
UL 745-2-36 | Particular Requirements for Hand Motor Tools | Withdrawn | None.
UL 745-2-37 | Particular Requirements for Plate Jointers | Withdrawn | None.
UL 61010A-1 | Electrical Equipment for Laboratory Use; Part 1: General Requirements | Withdrawn and replaced | UL 61010-1 Electrical Equipment for Measurement, Control and Laboratory Use; Part 1: General Requirements.
UL 61010A-2-010 | Electrical Equipment for Laboratory Use; Part 2: Particular Requirements for the Heating of Materials | Withdrawn and replaced | UL 61010-2-010 Electrical Equipment for Measurement, Control and Laboratory Use—Part 2-010: Particular Requirements for Laboratory Equipment for the Heating of Materials.
UL 61010A-2-020 | Electrical Equipment for Laboratory Use; Part 2: Particular Requirements for Laboratory Centrifuges | Withdrawn and replaced | UL 61010-2-020 Electrical Equipment for Measurement, Control, and Laboratory Use—Part 2-020: Particular Requirements for Laboratory Centrifuges.
UL 61010A-2-041 | Electrical Equipment for Laboratory Use: Part 2: Particular Requirements for Autoclaves Using Steam for the Treatment of Medical Materials for Laboratory Purposes | Withdrawn and replaced | UL 61010-1 (no direct replacement).
UL 61010A-2-051 | Electrical Equipment for Laboratory Use; Part 2: Particular Requirements for Laboratory Equipment Mixing and Stirring | Withdrawn and replaced | UL 61010-2-051 Electrical Equipment for Measurement, Control and Laboratory Use—Part 2-051: Particular Requirements for Laboratory Equipment for Mixing and Stirring.
UL 61010A-2-061 | Electrical Equipment for Laboratory Use: Part 2: Particular Requirements for Laboratory Atomic Spectrometers with Thermal Atomization and Ionization | Withdrawn and replaced | UL 61010-2-061 Electrical Equipment for Measurement, Control and Laboratory Use—Part 2-061: Particular Requirements for Laboratory Atomic Spectrometers with Thermal Atomization and Ionization.
UL 61010B-1 | Electrical Measuring and Test Equipment; Part 1: General Requirements | Withdrawn and replaced | UL 61010-1 Electrical Equipment for Measurement, Control and Laboratory Use; Part 1: General Requirements.
UL 61010B-2-031 | Electrical Equipment for Measurement, Control and Laboratory Use: Part 2: Particular Requirements for Hand-Held Probe Assemblies for Electrical Measurement and Test | Withdrawn and replaced | UL 61010-1 (no direct replacement).
UL 61010C-1 | Process Control Equipment | Withdrawn and replaced | UL 61010-1 Electrical Equipment for Measurement, Control and Laboratory Use; Part 1: General Requirements.

III. Proposed Modifications to Affected NRTLs' Scopes of Recognition

In this notice, OSHA additionally proposes to update the scopes of recognition of several NRTLs with a replacement for the test standard OSHA proposes to remove. The tables in this section (Table 2 thru Table 9) list, for each affected NRTL, the test standard(s) that OSHA proposes to remove from the scope of recognition of the NRTL along with the proposed replacement test standard (if any).

OSHA seeks comment on whether its proposed deletion and replacement are appropriate, and whether individual tables omit any appropriate replacement test standard that is comparable to a withdrawn test standard. If OSHA determines that it omitted any appropriate replacement test standard that is comparable to a withdrawn test standard, it will, in its final determination, incorporate that replacement test standard into the scope of recognition of each affected NRTL.

Comments should consist of pertinent written documents and exhibits. Commenters needing more time to comment must submit a request in writing, stating the reasons for the request, by the due date for comments. OSHA will limit any extension to 10 days unless the requester justifies a longer time period. OSHA may deny a request for an extension if it is not adequately justified.

Table 2—Test Standards OSHA Proposes To Remove From the Scope of Recognition of the Canadian Standards Association
Proposed test standard to be removed | Reason for proposed removal | Proposed replacement test standard(s) (if applicable)
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Equipment for Laboratory Centrifuges.
IEEE C37.09 Standard Test Procedure for AC High-Voltage Circuit Breakers Rated on a Symmetrical Current Basis | Withdrawn | None.
IEEE C37.29 Low-Voltage AC Power Circuit Protectors Used in Enclosures | Withdrawn | None.
IEEE C37.45 Distribution Enclosed Single-Pole Air Switches | Withdrawn | None.
NEMA C37.52 Low-Voltage AC Power Circuit Protectors Used in Enclosures—Test Procedures | Withdrawn | None.
ISA 82.02.01 Electric and Electronic Test, Measuring, Controlling and Related Equipment: General Requirement | Withdrawn | None.
UL 1244 | Withdrawn | None.
UL 1448 | Withdrawn and Replaced | UL 60745-2-15 Particular Requirements for Hedge Trimmers.
ISA 60079-2 Explosive Atmospheres—Part 2: Equipment Protection by Pressurized Enclosures “p” | Withdrawn and replaced | UL 60079-2 Explosive Atmospheres—Part 2: Equipment Protection by Pressurized Enclosures “p”.
ISA 60079-5 Explosive Atmospheres—Part 5: Equipment Protection by Power Filling “q” | Withdrawn and replaced | UL 60079-5 Explosive Atmospheres—Part 5: Equipment Protection by Powder Filling “q”.
ISA 60079-18 Explosive Atmospheres—Part 18: Equipment Protection by Encapsulation “m” | Withdrawn and replaced | UL 60079-18 Explosive Atmospheres—Part 18: Equipment Protection by Encapsulation “m”.
ISA 60079-26 Explosive Atmospheres—Part 26: Equipment for Use in Class I, Zone 0 Hazardous (Classified) Locations | Withdrawn and replaced | UL 60079-26 Explosive Atmospheres—Part 26: Equipment for Use in Class I, Zone 0 Hazardous (Classified) Locations.
UL 745-1 Portable Electric Tools | Withdrawn | None.
UL 745-2-1 Particular Requirements of Drills | Withdrawn | None.
UL 745-2-5 Particular Requirements for Circular Saws and Circular Knives | Withdrawn | None.
UL 745-2-17 Particular Requirements for Routers and Trimmers | Withdrawn | None.
UL 745-2-36 Particular Requirements for Hand Motor Tools | Withdrawn | None.
UL 745-2-37 Particular Requirements for Plate Jointers | Withdrawn | None.
UL 61010A-1 Electrical Equipment for Laboratory Use; Part 1: General Requirements | Withdrawn and replaced | UL 61010-1 Electrical Equipment for Measurement, Control and Laboratory Use; Part 1: General Requirements.
UL 61010A-2-010 Electrical Equipment for Laboratory Use; Part 2: Particular Requirements for the Heating of Materials | Withdrawn and replaced | UL 61010-2-010 Electrical Equipment for Measurement, Control and Laboratory Use—Part 2-010: Particular Requirements for Laboratory Equipment for the Heating of Materials.
UL 61010A-2-020 Electrical Equipment for Laboratory Use; Part 2: Particular Requirements for Laboratory Centrifuges | Withdrawn and replaced | UL 61010-2-020 Electrical Equipment for Measurement, Control, and Laboratory Use—Part 2-020: Particular Requirements for Laboratory Centrifuges.
UL 61010A-2-041 Electrical Equipment for Laboratory Use: Part 2: Particular Requirements for Autoclaves Using Steam for the Treatment of Medical Materials for Laboratory Purposes | Withdrawn and replaced | UL 61010-1 (no direct replacement).
UL 61010A-2-051 Electrical Equipment for Laboratory Use; Part 2: Particular Requirements for Laboratory Equipment Mixing and Stirring | Withdrawn and replaced | UL 61010-2-051 Electrical Equipment for Measurement, Control and Laboratory Use—Part 2-051: Particular Requirements for Laboratory Equipment for Mixing and Stirring.
UL 61010A-2-061 Electrical Equipment for Laboratory Use: Part 2: Particular Requirements for Laboratory Atomic Spectrometers with Thermal Atomization and Ionization | Withdrawn and replaced | UL 61010-2-061 Electrical Equipment for Measurement, Control and Laboratory Use—Part 2-061: Particular Requirements for Laboratory Atomic Spectrometers with Thermal Atomization and Ionization.
UL 61010B-1 Electrical Measuring and Test Equipment; Part 1: General Requirements | Withdrawn and replaced | UL 61010-1 Electrical Equipment for Measurement, Control and Laboratory Use; Part 1: General Requirements.
UL 61010B-2-031 Electrical Equipment for Measurement, Control and Laboratory Use: Part 2: Particular Requirements for Hand-Held Probe Assemblies for Electrical Measurement and Test | Withdrawn and replaced | UL 61010-1 (no direct replacement).
UL 61010C-1 Process Control Equipment | Withdrawn and replaced | UL 61010-1 Electrical Equipment for Measurement, Control and Laboratory Use; Part 1: General Requirements.

Table 3—Test Standard OSHA Proposes To Remove From the Scope of Recognition of FM Approvals LLC
Proposed test standard to be removed | Reason for proposed removal | Proposed replacement test standard(s) (if applicable)
UL 1093 | Withdrawn | None.
ISA 82.02.01 Electric and Electronic Test, Measuring, Controlling and Related Equipment: General Requirement | Withdrawn | None.
UL 61010A-1 Electrical Equipment for Laboratory Use; Part 1: General Requirements | Withdrawn and replaced | UL 61010-1 Electrical Equipment for Measurement, Control and Laboratory Use; Part 1: General Requirements.
UL 61010B-1 Electrical Measuring and Test Equipment; Part 1: General Requirements | Withdrawn and replaced | UL 61010-1 Electrical Equipment for Measurement, Control and Laboratory Use; Part 1: General Requirements.

Table 4—Test Standard OSHA Proposes To Remove From the Scope of Recognition of Intertek Testing Services, NA
Proposed test standard to be removed | Reason for proposed removal | Proposed replacement test standard(s) (if applicable)
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Centrifuges.
IEEE C37.29 Low-Voltage AC Power Circuit Protectors Used in Enclosures | Withdrawn | None.
ISA 82.02.01 Electric and Electronic Test, Measuring, Controlling and Related Equipment: General Requirement | Withdrawn | None.
UL 1093 Halogenated Agent Fire Extinguishers | Withdrawn | None.
UL 1244 Electrical and Electronic Measuring and Testing Equipment | Withdrawn | None.
UL 1448 Electric Hedge Trimmers | Withdrawn and Replaced | UL 60745-2-15 Particular Requirements for Hedge Trimmers.
ISA 60079-2 Explosive Atmospheres—Part 2: Equipment Protection by Pressurized Enclosures “p” | Withdrawn and replaced | UL 60079-2 Explosive Atmospheres—Part 2: Equipment Protection by Pressurized Enclosures “p”.
ISA 60079-5 Explosive Atmospheres—Part 5: Equipment Protection by Power Filling “q” | Withdrawn and replaced | UL 60079-5 Explosive Atmospheres—Part 5: Equipment Protection by Powder Filling “q”.
ISA 60079-18 Explosive Atmospheres—Part 18: Equipment Protection by Encapsulation “m” | Withdrawn and replaced | UL 60079-18 Explosive Atmospheres—Part 18: Equipment Protection by Encapsulation “m”.
ISA 60079-26 Explosive Atmospheres—Part 26: Equipment for Use in Class I, Zone 0 Hazardous (Classified) Locations | Withdrawn and replaced | UL 60079-26 Explosive Atmospheres—Part 26: Equipment for Use in Class I, Zone 0 Hazardous (Classified) Locations.
UL 745-1 Portable Electric Tools | Withdrawn | None.
UL 745-2-1 Particular Requirements of Drills | Withdrawn | None.
UL 745-2-5 Particular Requirements for Circular Saws and Circular Knives | Withdrawn | None.
UL 745-2-17 Particular Requirements for Routers and Trimmers | Withdrawn | None.
UL 745-2-36 Particular Requirements for Hand Motor Tools | Withdrawn | None.
UL 745-2-37 Particular Requirements for Plate Jointers | Withdrawn | None.
UL 61010A-1 Electrical Equipment for Laboratory Use; Part 1: General Requirements | Withdrawn and replaced | UL 61010-1 Electrical Equipment for Measurement, Control and Laboratory Use; Part 1: General Requirements.
UL 61010A-2-010 Electrical Equipment for Laboratory Use; Part 2: Particular Requirements for the Heating of Materials | Withdrawn and replaced | UL 61010-2-010 Electrical Equipment for Measurement, Control and Laboratory Use—Part 2-010: Particular Requirements for Laboratory Equipment for the Heating of Materials.
UL 61010A-2-020 Electrical Equipment for Laboratory Use; Part 2: Particular Requirements for Laboratory Centrifuges | Withdrawn and replaced | UL 61010-2-020 Electrical Equipment for Measurement, Control, and Laboratory Use—Part 2-020: Particular Requirements for Laboratory Centrifuges.
UL 61010A-2-041 Electrical Equipment for Laboratory Use: Part 2: Particular Requirements for Autoclaves Using Steam for the Treatment of Medical Materials for Laboratory Purposes | Withdrawn and replaced | UL 61010-1 (no direct replacement).
UL 61010A-2-051 Electrical Equipment for Laboratory Use; Part 2: Particular Requirements for Laboratory Equipment Mixing and Stirring | Withdrawn and replaced | UL 61010-2-051 Electrical Equipment for Measurement, Control and Laboratory Use—Part 2-051: Particular Requirements for Laboratory Equipment for Mixing and Stirring.
UL 61010A-2-061 Electrical Equipment for Laboratory Use: Part 2: Particular Requirements for Laboratory Atomic Spectrometers with Thermal Atomization and Ionization | Withdrawn and replaced | UL 61010-2-061 Electrical Equipment for Measurement, Control and Laboratory Use—Part 2-061: Particular Requirements for Laboratory Atomic Spectrometers with Thermal Atomization and Ionization.
UL 61010B-1 Electrical Measuring and Test Equipment; Part 1: General Requirements | Withdrawn and replaced | UL 61010-1 Electrical Equipment for Measurement, Control and Laboratory Use; Part 1: General Requirements.
UL 61010B-2-031 Electrical Equipment for Measurement, Control and Laboratory Use: Part 2: Particular Requirements for Hand-Held Probe Assemblies for Electrical Measurement and Test | Withdrawn and replaced | UL 61010-1 (no direct replacement).
UL 61010C-1 Process Control Equipment | Withdrawn and replaced | UL 61010-1 Electrical Equipment for Measurement, Control and Laboratory Use; Part 1: General Requirements.

Table 5—Test Standard OSHA Proposes To Remove From the Scope of Recognition of MET Laboratories, Inc.
Proposed test standard to be removed | Reason for proposed removal | Proposed replacement test standard(s) (if applicable)
UL 1448 Electric Edge Trimmers | Withdrawn and Replaced | UL 60745-2-15 Particular Requirements for Hedge Trimmers.
UL 1244 Electrical and Electronic Measuring and Testing Equipment | Withdrawn | None.
UL 61010A-1 Electrical Equipment for Laboratory Use; Part 1: General Requirements | Withdrawn and replaced | UL 61010-1 Electrical Equipment for Measurement, Control and Laboratory Use; Part 1: General Requirements.
UL 61010B-1 Electrical Measuring and Test Equipment; Part 1: General Requirements | Withdrawn and replaced | UL 61010-1 Electrical Equipment for Measurement, Control and Laboratory Use; Part 1: General Requirements.
UL 61010C-1 Process Control Equipment | Withdrawn and replaced | UL 61010-1 Electrical Equipment for Measurement, Control and Laboratory Use; Part 1: General Requirements.

Table 6—Test Standard OSHA Proposes To Remove From the Scope of Recognition of TUV Rheinland of North America, Inc.
Proposed test standard to be removed | Reason for proposed removal | Proposed replacement test standard(s) (if applicable)
UL 1448 | Withdrawn and replaced | UL 60745-2-15 Particular Requirements for Hedge Trimmers.
UL 745-1 Portable Electric Tools | Withdrawn | None.
UL 745-2-1 Particular Requirements of Drills | Withdrawn | None.
UL 745-2-5 Particular Requirements for Circular Saws and Circular Knives | Withdrawn | None.
UL 745-2-17 Particular Requirements for Routers and Trimmers | Withdrawn | None.
UL 745-2-36 Particular Requirements for Hand Motor Tools | Withdrawn | None.
UL 745-2-37 Particular Requirements for Plate Jointers | Withdrawn | None.
UL 61010A-1 Electrical Equipment for Laboratory Use; Part 1: General Requirements | Withdrawn and replaced | UL 61010-1 Electrical Equipment for Measurement, Control and Laboratory Use; Part 1: General Requirements.
UL 61010B-1 Electrical Measuring and Test Equipment; Part 1: General Requirements | Withdrawn and replaced | UL 61010-1 Electrical Equipment for Measurement, Control and Laboratory Use; Part 1: General Requirements.
UL 61010C-1 Process Control Equipment | Withdrawn and replaced | UL 61010-1 Electrical Equipment for Measurement, Control and Laboratory Use; Part 1: General Requirements.

Table 7—Test Standard OSHA Proposes To Remove From the Scope of Recognition of TUV SUD America, Inc.
Proposed test standard to be remove | Reason for proposed removal | Proposed replacement test standard(s) (if applicable)
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Centrifuges.
UL 1448 | Withdrawn and replaced | UL 60745-2-15 Particular Requirements for Hedge Trimmers.
UL 745-1 Portable Electric Tools | Withdrawn | None.
UL 745-2-1 Particular Requirements of Drills | Withdrawn | None.
UL 745-2-5 Particular Requirements for Circular Saws and Circular Knives | Withdrawn | None.
UL 745-2-17 Particular Requirements for Routers and Trimmers | Withdrawn | None.
UL 745-2-36 Particular Requirements for Hand Motor Tools | Withdrawn | None.
UL 745-2-37 Particular Requirements for Plate Jointers | Withdrawn | None.
UL 61010A-1 Electrical Equipment for Laboratory Use; Part 1: General Requirements | Withdrawn and replaced | UL 61010-1 Electrical Equipment for Measurement, Control and Laboratory Use; Part 1: General Requirements.
UL 61010A-2-010 Electrical Equipment for Laboratory Use; Part 2: Particular Requirements for the Heating of Materials | Withdrawn and replaced | UL 61010-2-010.
UL 61010A-2-020 Electrical Equipment for Laboratory Use; Part 2: Particular Requirements for Laboratory Centrifuges | Withdrawn and replaced | UL 61010-2-010 Electrical Equipment for Measurement, Control and Laboratory Use—Part 2-010: Particular Requirements for Laboratory Equipment for the Heating of Materials.
UL 61010A-2-041 Electrical Equipment for Laboratory Use: Part 2: Particular Requirements for Autoclaves Using Steam for the Treatment of Medical Materials for Laboratory Purposes | Withdrawn and replaced | UL 61010-1 (no direct replacement).
UL 61010A-2-051 Electrical Equipment for Laboratory Use; Part 2: Particular Requirements for Laboratory Equipment Mixing and Stirring | Withdrawn and replaced | UL 61010-2-051 Electrical Equipment for Measurement, Control and Laboratory Use—Part 2-051: Particular Requirements for Laboratory Equipment for Mixing and Stirring.
UL 61010A-2-061 Electrical Equipment for Laboratory Use: Part 2: Particular Requirements for Laboratory Atomic Spectrometers with Thermal Atomization and Ionization | Withdrawn and replaced | UL 61010-2-061 Electrical Equipment for Measurement, Control and Laboratory Use—Part 2-061: Particular Requirements for Laboratory Atomic Spectrometers with Thermal Atomization and Ionization.
UL 61010B-1 Electrical Measuring and Test Equipment; Part 1: General Requirements | Withdrawn and replaced | UL 61010-1 Electrical Equipment for Measurement, Control and Laboratory Use; Part 1: General Requirements.
UL 61010B-2-031 Electrical Equipment for Measurement, Control and Laboratory Use: Part 2: Particular Requirements for Hand-Held Probe Assemblies for Electrical Measurement and Test | Withdrawn and replaced | UL 61010-1 (no direct replacement).

Table 8—Test Standard OSHA Proposes To Remove From the Scope of Recognition of TUVPSG, Inc.
Proposed test standard to be removed | Reason for proposed removal | Proposed replacement test standard(s) (if applicable)
UL 745-1 Portable Electric Tools | Withdrawn | None.
UL 745-2-1 Particular Requirements of Drills | Withdrawn | None.
UL 745-2-5 Particular Requirements for Circular Saws and Circular Knives | Withdrawn | None.
UL 745-2-17 Particular Requirements for Routers and Trimmers | Withdrawn | None.
UL 745-2-36 Particular Requirements for Hand Motor Tools | Withdrawn | None.
UL 745-2-37 Particular Requirements for Plate Jointers | Withdrawn | None.
UL 61010A-1 Electrical Equipment for Laboratory Use; Part 1: General Requirements | Withdrawn and replaced | UL 61010-1 Electrical Equipment for Measurement, Control and Laboratory Use; Part 1: General Requirements.
UL 61010A-2-010 Electrical Equipment for Laboratory Use; Part 2: Particular Requirements for the Heating of Materials | Withdrawn and replaced | UL 61010-2-010 Electrical Equipment for Measurement, Control and Laboratory Use—Part 2-010: Particular Requirements for Laboratory Equipment for the Heating of Materials.
UL 61010A-2-020 Electrical Equipment for Laboratory Use; Part 2: Particular Requirements for Laboratory Centrifuges | Withdrawn and replaced | UL 61010-2-020 Electrical Equipment for Measurement, Control, and Laboratory Use—Part 2-020: Particular Requirements for Laboratory Centrifuges.
UL 61010A-2-041 Electrical Equipment for Laboratory Use: Part 2: Particular Requirements for Autoclaves Using Steam for the Treatment of Medical Materials for Laboratory Purposes | Withdrawn and replaced | UL 61010-1 (no direct replacement).
UL 61010A-2-051 Electrical Equipment for Laboratory Use; Part 2: Particular Requirements for Laboratory Equipment Mixing and Stirring | Withdrawn and replaced | UL 61010-2-051 Electrical Equipment for Measurement, Control and Laboratory Use—Part 2-051: Particular Requirements for Laboratory Equipment for Mixing and Stirring.
UL 61010A-2-061 Electrical Equipment for Laboratory Use: Part 2: Particular Requirements for Laboratory Atomic Spectrometers with Thermal Atomization and Ionization | Withdrawn and replaced | UL 61010-2-061 Electrical Equipment for Measurement, Control and Laboratory Use—Part 2-061: Particular Requirements for Laboratory Atomic Spectrometers with Thermal Atomization and Ionization.
UL 61010B-1 Electrical Measuring and Test Equipment; Part 1: General Requirements | Withdrawn and replaced | UL 61010-1 Electrical Equipment for Measurement, Control and Laboratory Use; Part 1: General Requirements.

Table 9—Test Standard OSHA Proposes To Remove From the Scope of Recognition of Underwriters Laboratory, Inc.
Proposed test standard to be removed | Reason for proposed removal | Proposed replacement test standard(s) (if applicable)
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Centrifuges.
ANSI C37.44 Distribution Oil Cutouts and Fuse Links | Withdrawn | None.
IEEE C37.29 Low-Voltage AC Power Circuit Protectors Used in Enclosures | Withdrawn | None.
IEEE C37.45 Distribution Enclosed Single-Pole Air Switches | Withdrawn | None.
IEEE C37.52 Low-Voltage AC Power Circuit Protectors Used in Enclosures—Test Procedures | Withdrawn | None.
UL 1093 Halogenated Agent Fire Extinguishers | Withdrawn | None.
UL 1244 Electrical and Electronic Measuring and Testing Equipment | Withdrawn | None.
UL 1448 Electric Hedge Trimmers | Withdrawn and replaced | UL 60745-2-15 Particular Requirements for Hedge Trimmers.
ISA 60079-2 Explosive Atmospheres—Part 2: Equipment Protection by Pressurized Enclosures “p” | Withdrawn and replaced | UL 60079-2 Explosive Atmospheres—Part 2: Protection by Pressurized Enclosures “p”.
ISA 60079-5 Explosive Atmospheres—Part 5: Equipment Protection by Power Filling “q” | Withdrawn and replaced | UL 60079-5 Explosive Atmospheres—Part 5: Equipment Protection by Powder Filling “q”.
ISA 60079-18 Explosive Atmospheres—Part 18: Equipment Protection by Encapsulation “m” | Withdrawn and replaced | UL 60079-18 Explosive Atmospheres—Part 18: Equipment Protection by Encapsulation “m”.
ISA 60079-26 Explosive Atmospheres—Part 26: Equipment for Use in Class I, Zone 0 Hazardous (Classified) Locations | Withdrawn and replaced | UL 60079-26 Explosive Atmospheres—Part 26: Equipment for Use in Class I, Zone 0 Hazardous (Classified) Locations.
UL 745-1 Portable Electric Tools | Withdrawn | None.
UL 745-2-1 Particular Requirements of Drills | Withdrawn | None.
UL 745-2-5 Particular Requirements for Circular Saws and Circular Knives | Withdrawn | None.
UL 745-2-17 Particular Requirements for Routers and Trimmers | Withdrawn | None.
UL 745-2-36 Particular Requirements for Hand Motor Tools | Withdrawn | None.
UL 745-2-37 Particular Requirements for Plate Jointers | Withdrawn | None.
UL 61010A-1 Electrical Equipment for Laboratory Use; Part 1: General Requirements | Withdrawn and replaced | UL 61010-1 Electrical Equipment for Measurement, Control and Laboratory Use; Part 1: General Requirements.
UL 61010A-2-010 Electrical Equipment for Laboratory Use; Part 2: Particular Requirements for the Heating of Materials | Withdrawn and replaced | UL 61010-2-010 Electrical Equipment for Measurement, Control and Laboratory Use—Part 2-010: Particular Requirements for Laboratory Equipment for the Heating of Materials.
UL 61010A-2-020 Electrical Equipment for Laboratory Use; Part 2: Particular Requirements for Laboratory Centrifuges | Withdrawn and replaced | UL 61010-2-020 Electrical Equipment for Measurement, Control, and Laboratory Use—Part 2-020: Particular Requirements for Laboratory Centrifuges.
UL 61010A-2-041 Electrical Equipment for Laboratory Use: Part 2: Particular Requirements for Autoclaves Using Steam for the Treatment of Medical Materials for Laboratory Purposes | Withdrawn and replaced | UL 61010-1 (no direct replacement).
UL 61010A-2-051 Electrical Equipment for Laboratory Use; Part 2: Particular Requirements for Laboratory Equipment Mixing and Stirring | Withdrawn and replaced | UL 61010-2-051 Electrical Equipment for Measurement, Control and Laboratory Use—Part 2-051: Particular Requirements for Laboratory Equipment for Mixing and Stirring.
UL 61010A-2-061 Electrical Equipment for Laboratory Use: Part 2: Particular Requirements for Laboratory Atomic Spectrometers with Thermal Atomization and Ionization | Withdrawn and replaced | UL 61010-2-061 Electrical Equipment for Measurement, Control and Laboratory Use—Part 2-061: Particular Requirements for Laboratory Atomic Spectrometers with Thermal Atomization and Ionization.
UL 61010B-1 Electrical Measuring and Test Equipment; Part 1: General Requirements | Withdrawn and replaced | UL 61010-1 Electrical Equipment for Measurement, Control and Laboratory Use; Part 1: General Requirements.
UL 61010B-2-031 Electrical Equipment for Measurement, Control and Laboratory Use: Part 2: Particular Requirements for Hand-Held Probe Assemblies for Electrical Measurement and Test | Withdrawn and replaced | UL 61010-1 (no direct replacement).
UL 61010C-1 Process Control Equipment | Withdrawn and replaced | UL 61010-1 Electrical Equipment for Measurement, Control and Laboratory Use; Part 1: General Requirements.

To obtain or review copies of comments submitted to the docket, contact the Docket Office, Occupational Safety and Health Administration, U.S. Department of Labor, at the above address. These materials will also be available online at http://www.regulations.gov under Docket No. OSHA-2013-0012.

OSHA staff will review all comments to the docket submitted in a timely manner and, after addressing the issues raised by these comments, will make a recommendation to the Assistant Secretary for Occupational Safety and Health regarding the removal of these test standards from the NRTL Program's List of Appropriate Test Standards and to update the scope of recognition of several NRTLs. The Assistant Secretary will make the final decision. In making this decision, the Assistant Secretary may undertake other proceedings prescribed in Appendix A to 29 CFR 1910.7. OSHA will publish a public notice of this final decision in the Federal Register.

IV. Authority and Signature

Loren Sweatt, Acting Assistant Secretary of Labor for Occupational Safety and Health, authorized the preparation of this notice. Accordingly, the agency is issuing this notice pursuant to 29 U.S.C. 657(g)(2)), Secretary of Labor's Order No. 1-2012 (77 FR 3912, Jan. 25, 2012), and 29 CFR 1910.7.

Signed at Washington, DC, on April 3, 2019.
Loren Sweatt,
Acting Assistant Secretary of Labor for Occupational Safety and Health.

[FR Doc. 2019-07040 Filed 4-9-19; 8:45 am]

BILLING CODE 4510-26-P